NUCLEAR REGULATORY COMMISSION

10 CFR Part 72

RIN 3150-AI24

List of Approved Spent Fuel Storage Casks: HI-STORM 100 Revision 5; Withdrawal of Direct Final Rule

AGENCY: Nuclear Regulatory Commission.

ACTION: Direct final rule; withdrawal.

SUMMARY: The U.S. Nuclear Regulatory Commission (NRC) is withdrawing a direct final rule that would have revised the Holtec International HI-STORM 100 cask system listing within the “List of Approved Spent Fuel Storage Casks” to include Amendment No. 5 to the Certificate of Compliance. The NRC is taking this action because it has received a significant adverse comment in response to the direct final rule. This significant adverse comment shall be considered as a comment to the companion proposed rule that was published concurrently with the direct final rule.

DATES: The final rule published on December 31, 2007 (72 FR 74162), is withdrawn effective March 12, 2008.

FOR FURTHER INFORMATION CONTACT: Jayne M. McCausland, Office of Federal and State Materials and Environmental Management Programs, U.S. Nuclear Regulatory Commission, Washington, DC 20555, telephone (301) 415-6219 (e-mail: jmm2@nrc.gov).

SUPPLEMENTARY INFORMATION: On December 31, 2007 (72 FR 74162), the NRC published in the Federal Register a direct final rule amending its regulations in 10 CFR 72.214 to revise the Holtec International HI-STORM 100 cask system listing within the “List of Approved Spent Fuel Storage Casks” to include Amendment No. 5 to the Certificate of Compliance (CoC) No. 1014. Amendment No. 5 modifies the present cask system design to permit deletion of the requirement to perform thermal validation tests on thermal systems; an increase in the design basis maximum decay heat loads, namely, to 34 kilowatts (kW) for uniform loading and 36.9 kW for regionalized loading, and introduction of a new decay heat regionalized scheme; an increase in the maximum fuel assembly weight for boiling water reactor fuel in the Multi-Purpose Canister (MPC)-68 from 700 to 730 pounds; an increase in the maximum fuel assembly weight of up to 1,720 pounds for assemblies not requiring spacers, otherwise 1,680 pounds; changes to the assembly characteristics of 16x16 pressurized water reactor fuel assemblies to be qualified for storage in the HI-STORM 100 cask system; a change in the fuel storage locations in the MPC-32 for fuel with axial power shaping rod assemblies and in the fuel storage locations in the MPC-24, MPC-24E, and the MPC-32 for fuel with control rod assemblies, rod cluster control assemblies, and control element assemblies; elimination of the restriction that fuel debris can only be loaded into the MPC-24EF, MPC-32F, MPC-68F, and MPC-68FF canisters; introduction of a requirement that all MPC confinement boundary components and any MPC components exposed to spent fuel pool water or the ambient environment be made of stainless steel or, for MPC internals, neutron absorber or aluminum; the addition of a threshold heat load below which operation of the Supplemental Cooling System would not be required and modification of the design criteria to simplify the system; minor editorial changes to include clarification of the description of anchored casks, correction of typographical/editorial errors, clarification of the definitions of loading operations, storage operations, transport operations, unloading operations, cask loading facility, and transfer cask in various locations throughout the CoC and Final Safety Analysis Report; and modification of the definition of non-fuel hardware to include the individual parts of the items defined as non-fuel hardware. The direct final rule was to become effective on March 17, 2008. The NRC also concurrently published a companion proposed rule on December 31, 2007 (72 FR 74209).

In the direct final rule, NRC stated that if any significant adverse comments were received, a notice of timely withdrawal of the direct final rule would be published in the Federal Register, and the direct final rule would not take effect.

The NRC received a significant adverse comment on the direct final rule; therefore, the NRC is withdrawing the direct final rule. This significant adverse comment shall be considered as a comment to the companion proposed rule that was published concurrently with the direct final rule. The NRC will not initiate a second comment period on the companion proposed rule.

Dated at Rockville, Maryland, this 28th day of February, 2008.
For the Nuclear Regulatory Commission.
Luis A. Reyes,
Executive Director for Operations.

[FR Doc. E8-4796 Filed 3-11-08; 8:45 am]

BILLING CODE 7590-01-P